DEPARTMENT OF DEFENSE

Department of the Air Force

U.S. Air Force Scientific Advisory Board Notice of Meeting

AGENCY Department of the Air Force, U.S. Air Force Scientific Advisory Board.

ACTION Meeting Notice.

SUMMARY: Under the provisions of the Federal Advisory Committee Act of 1972 (5 U.S.C., Appendix, as amended), the Government in the Sunshine Act of 1976 (5 U.S.C. 552b, as amended), and 41 CFR 102-3.150, the Department of Defense announces that the United States Air Force Scientific Advisory Board (SAB) meeting will take place 10 to 11 January 2012 at the SAFTAS Conference and Innovation Center, 1550 Crystal Drive Plaza Level, Arlington, VA 22202. The meeting on Tuesday, 10 January 2012, will be from 7:45 a.m.-4:30 p.m., with the sessions between 7:45 a.m. to 9:45 a.m. open to the public. The meeting on Wednesday, 11 January 2012, will be from 8 a.m.-4:15 p.m. with the sessions from 1:30 p.m.-4:15 p.m. open to the public. The awards ceremony from 8 p.m. to 9 p.m. on 11 January 2012 at the Army Navy Country Club in Arlington, VA will be open to the public.

The purpose of this Air Force Scientific Advisory Board quarterly meeting is to introduce the FY12 SAB study topics tasked by the Secretary of the Air Force and receive presentations that address relevant subjects to the SAB mission to include introduction of the new Board members for FY12, status of FY11 studies and the remaining FY12 Board schedule; the latest updates on the ongoing Aircraft Oxygen Generation Study; review of the recently completed SAB Air Force Research Laboratory science and technology reviews; non-traditional intelligence, surveillance, and reconnaisance data collection and exploitation; ensuring cyber situational awareness for commanders; extended use of Air Force Space Command space-based sensors; acquisition challenges amid new era of defense policy and lessons learned from challenged acquisition programs; and balancing today's needs with tomorrow's challenges to prepare for full-spectrum operations.

In accordance with 5 U.S.C. 552b, as amended, and 41 CFR 102-3.155, The Administrative Assistant of the Air Force, in consultation with the Air Force General Counsel, has agreed that the public interest requires some sessions of the United States Air Force Scientific Advisory Board meeting be closed to the public because they will discuss information and matters covered by sections 5 U.S.C. 552b(c) (1) and (4).

Any member of the public wishing to provide input to the United States Air Force Scientific Advisory Board should submit a written statement in accordance with 41 CFR § 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the United States Air Force Scientific Advisory Board until its next meeting. The Designated Federal Officer will review all timely submissions with the United States Air Force Scientific Advisory Board Chairperson and ensure they are provided to members of the United States Air Force Scientific Advisory Board before the meeting that is the subject of this notice.

FOR FURTHER INFORMATION CONTACT: The United States Air Force Scientific Advisory Board Executive Director and Designated Federal Officer, Lt Col Matthew E. Zuber, (240) 612-5503, United States Air Force Scientific Advisory Board, 1500 West Perimeter Road, Ste. #3300, Joint Base Andrews, MD 20762, matthew.zuber@pentagon.af.mil.

Bao-Anh Trinh,
DAF, Air Force Federal Register Liaison Officer.

[FR Doc. 2011-32493 Filed 12-19-11; 8:45 am]

BILLING CODE 5001-10-P